DEPARTMENT OF STATE

22 CFR Part 62

[Public Notice: 7346]

RIN 1400-AC67

Exchange Visitor Program—Fees and Charges

Correction

In rule document 2011-4276, appearing on pages 10498-10500 in the issue of Friday, February 25, 2011, make the following correction:

On page 10498, in the second column, in the DATES section, “Effective Date: This rule is effective 30 days from February 25, 2011” should read “Effective Date: This rule is effective March 28, 2011”.

[FR Doc. C1-2011-4276 Filed 3-25-11; 8:45 am]

BILLING CODE 1505-01-D